DEPARTMENT OF THE INTERIOR

Bureau of Safety and Environmental Enforcement

30 CFR Part 254

Oil-Spill Response Requirements for Facilities Located Seward of the Coast Line

CFR Correction

This rule is being published by the Office of the Federal Register to correct an editorial or technical error that appeared in the most recent annual revision of the Code of Federal Regulations.

In Title 30 of the Code of Federal Regulations, Parts 200 to 699, revised as of July 1, 2021, amend § 254.54, by removing “Regional Supervisor” in the first sentence, and adding in its place “Chief, OSPD,”.

[FR Doc. 2022-14246 Filed 6-30-22; 8:45 am]

BILLING CODE 0099-10-P